DEPARTMENT OF TRANSPORTATION

Federal Transit Administration

Request for Grant Proposals for a Demonstration of a Web-based, Multimodal Trip Planning System

Correction

In notice document 04-11693 beginning on page 29626 in the issue of Monday, May 24, 2004, make the following correction:

On page 29627, in the first column, under the DATES heading, the Web site address should read, “http://www.fta.dot.gov/legal/federal_register/2004/12160_ENG_HTML.htm”.

[FR Doc. C4-11693 Filed 5-28-04; 8:45 am]

BILLING CODE 1505-01-D